DEPARTMENT OF TRANSPORTATION

Federal Motor Carrier Safety Administration

[Docket No. FMCSA-2006-25290]

Commercial Driver's License Standards; Isuzu Motors America, Inc.'s Exemption Application

AGENCY: Federal Motor Carrier Safety Administration (FMCSA), DOT.

ACTION: Notice of final disposition; granting of application for exemption.

SUMMARY: FMCSA announces its decision to approve Isuzu North America Corporation's (Isuzu) application for an exemption for a period of 2 years. The exemption allows 20 Isuzu commercial motor vehicle (CMV) drivers, who are citizens and residents of Japan and hold a Japanese commercial driver's license (CDL), to test-drive Isuzu CMVs in the United States without a CDL issued by one of the States. Isuzu requested the exemption so that these driver-employees, as a team, can support the evaluation and testing of production and prototype Isuzu CMVs for sale in the United States. FMCSA believes the knowledge and skills training and testing that Japanese drivers must undergo to obtain a Japanese CDL ensures a level of safety that is equivalent to, or greater than, the level of safety achieved without the exemption.

DATES: This exemption is effective on July 24, 2009 and expires on July 25, 2011.

FOR FURTHER INFORMATION CONTACT: Mr. Robert F. Schultz, Jr., FMCSA Office of Bus and Truck Standards and Operations, Driver and Carrier Operations Division, Telephone: 202-366-4325, or e-mail: MCPSD@dot.gov.

SUPPLEMENTARY INFORMATION:

Background

Under 49 U.S.C. 31315(b)(1) and 31136(e), FMCSA may grant an exemption for a maximum of 2 years if it finds “* * * such exemption would likely achieve a level of safety that is equivalent to, or greater than, the level that would be achieved absent such exemption * * *.” The procedure for requesting an exemption is prescribed by 49 CFR part 381.

Isuzu Application for an Exemption

Isuzu has applied for an exemption from the requirement of 49 CFR 383.23 that operators of CMVs must obtain a CDL from one of the States. Specifically, it asks that 20 of its employee-drivers who are citizens and residents of Japan and hold a Japanese CDL be permitted to operate a CMV in the United States for a period of 2 years. The exemption would allow these individuals to test-drive Isuzu CMVs without a CDL issued by one of the States. A copy of the request for exemption is in the docket identified at the beginning of this notice.

Method To Ensure an Equivalent or Greater Level of Safety

These Isuzu drivers are experienced operators of CMVs. In Japan, drivers must hold a conventional driver's license for at least 3 years to be eligible for a CDL. They also must successfully pass both skills and knowledge tests to obtain a Japanese-issued CDL. A driver granted a Japanese CDL may legally operate any CMV allowed on the roads of Japan. Isuzu believes that these Japanese-CDL drivers will achieve a level of safety equaling or exceeding the level of safety that would be achieved without the exemption.

Comments

On April 6, 2009, FMCSA published a notice of Isuzu's application for exemption and requested comments from the public by May 6, 2009 (74 FR 15575). No comments were received.

FMCSA Decision

FMCSA believes that the operations of the 20 Isuzu drivers will ensure a level of safety that is equivalent to, or greater than, the level of safety that would be achieved without the exemption. FMCSA's decision to grant this exemption is based on the merits of the application for exemption and the considerable CMV-driving experience of these drivers. In addition, FMCSA considers the rigorous skills and knowledge testing that Japanese drivers undergo to obtain a Japanese CDL to be comparable to, or as effective as, the requirements of a U.S. CDL (49 CFR part 383). Therefore, FMCSA grants exemption from the requirements of 49 CFR 383.23 to the following 20 individuals, while employed by Isuzu, to enable them to operate CMVs in the U.S. without a U.S. CDL for a period of 2 years: Tadashi Shoda, Ryouji Matsuzawa, Hisashi Hashiguchi, Nobuhisa Okuda, Minoru Endo, Fumiaki Takei, Akira Yoshino, Tadao Shibuya, Akira Iizuka, Yoshinori Ugai, Kazuyoshi Tateishi, Naomi Uchida, Kiyoshi Toshima, Khoki Natsumi, Minuro Tsuchida, Mitsuo Konno, Hiroaki Kurata, Naoki Morimoto, Takayuki Kaneda, and Chito Agatsuma.

Terms and Conditions of the Exemption

This exemption is subject to the following terms and conditions: (1) These drivers are subject to the drug and alcohol regulations, including testing, as provided in 49 CFR part 382, (2) these drivers are subject to the same driver disqualification rules under 49 CFR parts 383 and 391 that apply to other CMV drivers in the United States, (3) Isuzu shall notify FMCSA in writing if an exempted driver is convicted of a disqualifying offense described in sections 383.51 or 391.15 of the Federal Motor Carrier Safety Regulations (49 CFR 350 et seq.), (4) these drivers must keep, at all times, a copy of the exemption with them in the CMV they are driving, and (5) Isuzu must notify FMCSA in writing of any accident, as defined in 49 CFR 390.5, that involves an exempted driver.

FMCSA will revoke this exemption if: (1) The Isuzu drivers fail to comply with the terms and conditions of the exemption, (2) the exemption results in a lower level of safety than was maintained before it was granted, or (3) continuation of the exemption would not be consistent with the goals and objectives of 49 U.S.C. 31315 and 31136.

Issued on: July 16, 2009.
Larry W. Minor,
Associate Administrator for Policy and Program Development.

[FR Doc. E9-17617 Filed 7-23-09; 8:45 am]

BILLING CODE 4910-EX-P